DEPARTMENT OF THE INTERIOR

National Park Service

Notice of Intent to Repatriate Cultural Items: Field Museum of Natural History, Chicago, IL

AGENCY: National Park Service, Interior.

ACTION: Notice.

Notice is here given in accordance with the Native American Graves Protection and Repatriation Act (NAGPRA), 25 U.S.C. 3005, of the intent to repatriate items in the possession of the Field Museum of Natural History (Field Museum), Chicago, IL that meet the definition of “cultural items” under 25 U.S.C. 3001.

This notice is published as part of the National Park Service's administrative responsibilities under NAGPRA, 25 U.S.C. 3003 (d) (3). The determinations in this notice are the sole responsibility of the museum, institution, or Federal agency that has control of the cultural items. The National Park Service is not responsible for the determinations in this notice.

The 159 cultural items are 134 items in the Montzheimer Collection (FM accession 206, catalog 17277-17407) and 25 items in the Hubbell Collection (FM accession 1106, catalog 53215-53239). Both collections consist of ritual paraphernalia related to the activities of a Navajo Hataalii - chanter, singer, medicine man/woman. Collectively the cultural items are referred to as jish and are used in the Nightway ceremony.

The Montzheimer Collection was a gift to the museum from Edward E. Ayer in 1895. Mr. Ayer purchased the collection from A. Montzheimer, a collector living in “Navajo Country.” The Montzheimer collection consists of 19 bundles of feathers; 12 plume sticks;1 bundle of eagle quills; 1 gourd rattle; 3 rawhide rattles; 4 small bows; 1 bundle containing fire sticks; 1 horn cup; 2 small shells; 1 polished stone; 2 quartz fragments; 2 jasper arrow points; 1 flint arrow point; 8 implements of flint, wood, buckskin, stone and bone; 1 bone fragment; 1 tin box containing blue pigment; 1 small clay vessel; 1 wooden stick wrapped with yarn; 2 badger feet; 1 necklace of hawk talons; 2 amulets of hawk and eagle talons; 4 painted buckskin masks; 1 buckskin bag; 1 piece of buckskin; 1 small goatskin bag; 59 bags containing medicine; and 1 bag containing horn.

The Hubbell Collection was acquired by the museum from E.A. Burbank in 1910. Mr. Burbank had acquired the items from J.L. Hubbell, a trader living in Ganado, AZ. Mr. Hubbell acquired the cultural items directly from unnamed Navajo sources. The Hubbell Collection consists of 20 painted buckskin masks (including loose eagle feathers originally associated with the masks, but now unattached); 1 hump back (for dancer); 1 twig bow; 1 bundle of willow sticks with eagle feathers; and 2 rattles.

The cultural affiliation of the cultural items is to the Navajo Nation, Arizona, New Mexico & Utah as indicated by museum records and by consultation evidence presented by the Navajo Nation, Arizona, New Mexico & Utah. Museum records indicate that the cultural items are “Navajo.”

Officials of the Field Museum of Natural History have determined that, pursuant to 25 U.S.C. 3001, the items meet the definition of cultural items and are subject to repatriation under NAGPRA. Officials of the Field Museum of Natural History also have determined that, pursuant to 25 U.S.C. 3001 (2), there is a relationship of shared group identity that can be reasonably traced between the cultural items and the Navajo Nation, Arizona, New Mexico & Utah.

Representatives of any other Indian tribe that believes itself to be culturally affiliated with the cultural items should contact Jonathan Haas, MacArthur Curator of North American Anthropology, Field Museum of Natural History, 1400 South Lake Shore Drive, Chicago IL 60605, telephone (312) 665-7829, before September 24, 2007. Repatriation of the cultural items to the Navajo Nation, Arizona, New Mexico & Utah may proceed after that date if no additional claimants come forward.

The Field Museum of Natural History is responsible for notifying the Navajo Nation, Arizona, New Mexico & Utah that this notice has been published.

Dated: August 8, 2007.
Sherry Hutt,
Manager, National NAGPRA Program.

[FR Doc. E7-16775 Filed 8-23-07; 8:45 am]

BILLING CODE 4312-50-S